ENVIRONMENTAL PROTECTION AGENCY

[FRL-7408-4]

Notice of Availability of Annual Reports as Required by the Energy Policy Act of 1992 (EPAct)

AGENCY: Environmental Protection Agency (EPA).

ACTION: Notice of availability of annual reports as required by the EPAct of 1992.

SUMMARY: The Environmental Protection Agency announces the availability of reports summarizing compliance with alternative fueled vehicle acquisition requiremetns of the Energy Policy Act of 1992 (EPAct). These reports are available at the following Web site: http://www.epa.gov/greeningepa/greenfleet/index.htm. or by request to the Environmental Protection Agency (EPA) Transportation Management Office. These reports have been prepared and are being made publicly available as mandated by EPAct, which was designed to increase United States energy security in cost-effective and environmentally beneficial ways, in part through increased use of alternative fuels by vehicles owned and operated by the Federal governmnet.

DATES: These reports will be available starting December 1, 2002.

FOR FURTHER INFORMATION CONTACT: Melvin Joppy, EPA Transportation Management Office at (202) 564-6232 or by e-mail at Joppy.Melvin@epa.gov.

David R. Lloyd,
Acting Director, Facilities Management and Services Division.

[FR Doc. 02-29057 Filed 11-14-02; 8:45 am]

BILLING CODE 6560-50-M